DEPARTMENT OF COMMERCE

International Trade Administration

[A-570-900]

Diamond Sawblades and Parts Thereof, From the People's Republic of China: Notice of Court Decision Not in Harmony With the Final Results of Antidumping Administrative Review; Notice of Amended Final Results

AGENCY: Enforcement and Compliance, International Trade Administration, Department of Commerce.

SUMMARY: On July 12, 2023, the U.S. Court of International Trade (CIT) issued its final judgment in Danyang Weiwang Tools Manufacturing Co., Ltd. et al. v. United States, Consol. Court No. 19-00006, sustaining the U.S. Department of Commerce's (Commerce) remand results pertaining to the antidumping duty administrative review on diamond sawblades and parts thereof from the People's Republic of China (China) covering the period of review, November 1, 2016, through October 31, 2017. Commerce is notifying the public that the CIT's final judgment is not in harmony with Commerce's final results of the administrative review, and that Commerce is amending the final results with respect to the dumping margin assigned to Danyang Weiwang Tools Manufacturing Co., Ltd., Quanzhou Zhongzhi Diamond Tool Co., Ltd., and Chengdu Huifeng New Material Technology Co., Ltd. (collectively, the Separate Rate Respondents).

DATES: Applicable July 24, 2023.

FOR FURTHER INFORMATION CONTACT: Allison Hollander, AD/CVD Operations, Office I, Enforcement and Compliance, International Trade Administration, U.S. Department of Commerce, 1401 Constitution Avenue NW, Washington, DC 20230; telephone: (202) 482-2805.

SUPPLEMENTARY INFORMATION:

Background

On December 14, 2018, Commerce published its final results in the 2016-2017 antidumping duty administrative review of diamond sawblades and parts thereof from China.¹ Commerce applied to non-selected respondents the separate rate assigned to eligible respondents in the last completed administrative review prior to the instant review, which was 82.05 percent.

¹ See Diamond Sawblades and Parts Thereof from the People's Republic of China: Final Results of Antidumping Duty Administrative Review; 2016-2017, 83 FR 64331 (December 14, 2018) (Final Results), and accompanying Issues and Decision Memorandum.

The Separate Rate Respondents appealed Commerce's Final Results. On January 13, 2023, the CIT remanded the Final Results to Commerce, granting Commerce's request to consider the effect of recently completed litigation of the prior administrative review ² on the Final Results.³ In its final results of redetermination, issued on April 7, 2023, Commerce revised the rate (i.e., from 82.05 percent to 41.03 percent) for the Separate Rate Respondents.⁴ The CIT sustained Commerce's Final Remand.⁵

² See Bosun Tools Co., Ltd. v. United States, 493 F. Supp. 3d 1351 (CIT 2021), aff'd Bosun Tools Co., Ltd. et al. v. United States, Court No. 2021-1930 (Fed. Cir. Jan. 10, 2022).

³ See Danyang Weiwang Tools Manufacturing Co., Ltd. et al. v. United States, Consol. Court No. 19-00006 (CIT January 13, 2023) (Remand Order).

⁴ See Final Results of Redetermination Pursuant to Court Remand, Danyang Weiwang Tools Manufacturing Co., Ltd. et al., Consol. Court No. 19-00006 (CIT January 13, 2023), dated April 7, 2023 (Final Remand), available on Commerce's website at https://access.trade.gov/resources/remands/19-00006.pdf.

⁵ See Danyang Weiwang Tools Manufacturing Co., Ltd. et al. v. United States, Consol. Court No. 19-00006, Slip Op. 23-100 (CIT July 12, 2023).

Timken Notice

In its decision in Timken,⁶ as clarified by Diamond Sawblades,⁷ the U.S. Court of Appeals for the Federal Circuit held that, pursuant to section 516A(c) and (e) of the Tariff Act of 1930, as amended (the Act), Commerce must publish a notice of court decision that is not “in harmony” with a Commerce determination and must suspend liquidation of entries pending a “conclusive” court decision. The CIT's July 12, 2023, judgment constitutes a final decision of the CIT that is not in harmony with Commerce's Final Results. Thus, this notice is published in fulfillment of the publication requirements of Timken.

⁶ See Timken Co. v. United States, 893 F.2d. 337 (Fed. Cir. 1990) (Timken).

⁷ See Diamond Sawblades Manufacturers Coalition v. United States, 626 F.3d 1374 (Fed. Circ. 2010) (Diamond Sawblades).

Amended Final Results

Because there is now a final court judgment, Commerce is amending its Final Results with respect to the Separate Rate Respondents as follows:

Company | Final results rate (percent) | Remand rate (percent)
Chengdu Huifeng New Material Technology Co., Ltd. | 82.05 | 41.03
Danyang Weiwang Tools Manufacturing Co., Ltd. | 82.05 | 41.03
Quanzhou Zhongzhi Diamond Tool Co., Ltd. | 82.05 | 41.03

Cash Deposit Requirements

Because Chengdu Huifeng New Material Technology Co., Ltd., and Quanzhou Zhongzhi Diamond Tool Co., Ltd., have superseding cash deposit rates, i.e., there have been final results published in a subsequent administrative review,⁸ we will not issue revised cash deposit instructions to U.S. Customs and Border Protection (CBP) with respect to these companies. This notice will not affect the current cash deposit rate for these exporters.

⁸ See Diamond Sawblades and Parts Thereof from the People's Republic of China: Preliminary Results of Antidumping Duty Administrative Review, Preliminary Determination of No Shipments, and Rescission of Review in Part; 2018-2019, 86 FR 14873 (March 19, 2021), unchanged in Diamond Sawblades and Parts Thereof from the People's Republic of China: Final Results of Antidumping Duty Administrative Review; 2018-2019, 86 FR 46832 (August 20, 2021); see also Diamond Sawblades and Parts Thereof from the People's Republic of China: Preliminary Results of Antidumping Duty Administrative Review and Preliminary Determination of No Shipments; 2019-2020, 86 FR 41446 (August 2, 2021), unchanged in Diamond Sawblades and Parts Thereof from the People's Republic of China: Final Results of Antidumping Duty Administrative Review and Final Determination of No Shipments; 2019-2020, 86 FR 67905 (November 30, 2021).

Commerce will issue revised cash deposit instructions to CBP for Danyang Weiwang Tools Manufacturing Co., Ltd., which does not have a superseding cash deposit rate.

Liquidation of Suspended Entries

At this time, Commerce remains enjoined by CIT order from liquidating entries that were exported by the Separate Rate Respondents, and were entered, or withdrawn from warehouse, for consumption during the period November 1, 2016, through October 31, 2017. These entries will remain enjoined pursuant to the terms of the injunctions during the pendency of any appeals process.

In the event the CIT's ruling is not appealed, or, if appealed, upheld by a final and conclusive court decision, Commerce intends to instruct CBP to assess antidumping duties on unliquidated entries of subject merchandise exported by the Separate Rate Respondents in accordance with 19 CFR 351.212(b). We will instruct CBP to assess antidumping duties on all appropriate entries covered by this review.

Notification to Interested Parties

This notice is issued and published in accordance with sections 516A(c) and (e) and 777(i)(1) of the Act.

Dated: July 17, 2023.
Lisa W. Wang,
Assistant Secretary for Enforcement and Compliance.

[FR Doc. 2023-15469 Filed 7-20-23; 8:45 am]

BILLING CODE 3510-DS-P